DEPARTMENT OF DEFENSE

Office of the Secretary

[Docket ID DOD-2011-OS-0048]

Privacy Act of 1974; System of Records

AGENCY: Office of the Secretary, DoD.

ACTION: Notice to alter a system of records.

SUMMARY: The Office of the Secretary of Defense proposes to alter a system of records in its inventory of record systems subject to the Privacy Act of 1974 (5 U.S.C. 552a), as amended.

DATES: This proposed action would be effective without further notice on June 2, 2011 unless comments are received which result in a contrary determination.

ADDRESSES: You may submit comments, identified by docket number and/Regulatory Information Number (RIN) and title, by any of the following methods:

• Federal Rulemaking Portal: http://www.regulations.gov.

Follow the instructions for submitting comments.

• Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Cindy Allard at (703) 588-6830, or Chief, OSD/JS Privacy Office, Freedom of Information Directorate, Washington Headquarters Services, 1155 Defense Pentagon, Washington, DC 20301-1155.

SUPPLEMENTARY INFORMATION: The Office of the Secretary of Defense notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on April 26, 2011, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 27, 2011.
Morgan F. Park,
Alternate OSD Federal Register Liaison Officer, Department of Defense.

DMDC 12 DoD

Joint Personnel Adjudication System (JPAS), (October 14, 2010, 75 FR 63161).

* * * * *

Retention and disposal:

Delete entry and replace with “Records are destroyed no later than one (1) year after notification of death or not later than five (5) years after separation or transfer of employee or no later than five (5) years after contract relationship expires, whichever is applicable.”

* * * * *

Notification procedure:

Delete entry and replace with “Individuals seeking to determine whether information about themselves is contained in this system should address written inquiries to the Defense Manpower Data Center (DMDC) Boyers, ATTN: Privacy Act Office, P.O. Box 168, Boyers, PA 16020-0168.

Written requests must contain the full name (and any alias and/or alternate names used), SSN, and date and place of birth.”

Records access procedures:

Delete entry and replace with “Individuals seeking information about themselves contained in this system should address written inquiries to the Office of the Defense Manpower Data Center (DMDC) Boyers, ATTN: Privacy Act Office, P.O. Box 168, Boyers, PA 16020-0168.

Individuals should provide their full name (and any alias and/or alternate names used), SSN, and date and place of birth.

In addition, the requester must provide a notarized statement or an unsworn declaration made in accordance with 28 U.S.C. 1746, in the following format:

If executed without the United States: ‘I declare (or certify, verify, or state) under penalty of perjury under the laws of the United States of America that the foregoing is true and correct. Executed on (date). (Signature).’

If executed within the United States, its territories, possessions, or commonwealths: ‘I declare (or certify, verify, or state) under penalty of perjury that the foregoing is true and correct. Executed on (date). (Signature).’

Attorneys or other persons acting on behalf of an individual must provide written authorization from that individual for their representative to act on their behalf.

Because JPAS is a “joint” DoD system, it may be necessary to refer specific data to the DoD Component where it originated for a release determination.”

* * * * *

DMDC 12 DoD

System name:

Joint Personnel Adjudication System (JPAS).

System location:

Defense Manpower Data Center, DoD Center Monterey Bay, 400 Gigling Road, Seaside, CA 93955-6771.

Categories of individuals covered by the system:

All Department of Defense active and reserve military personnel; civilian employees and applicants; DoD contractor employees and applicants; National Guard personnel; U.S. Coast Guard military and civilian personnel and applicants requiring access to National Security and/or Sensitive Compartmented Information; “affiliated” personnel (such as Non-Appropriated Fund employees, Red Cross volunteers and staff; USO personnel, and congressional staff members); and foreign nationals whose duties require access to National Security Information (NSI) and/or assignment to a sensitive position.

Categories of records in the system:

Complete investigation packages and documenting records conducted by Federal investigative organizations (e.g., U.S. Office of Personnel Management (OPM), Central Intelligence Agency, NASA, etc.) and locator references to such investigations. Records documenting the personnel security adjudicative and management process, to include an individual's Social Security Number (SSN); name (both, current, former and alternate names); date of birth; place of birth; country of citizenship; type of DoD affiliation; employing activity; current employment status; position sensitivity; personnel security investigative basis; status of current adjudicative action; security clearance eligibility and access status; whether eligibility determination was based on a condition, deviation from prescribed investigative standards or waiver of adjudication guidelines; reports of security-related incidents, to include issue files; suspension of eligibility and/or access; denial or revocation of eligibility and/or access; eligibility recommendations or decisions made by an appellate authority; non-disclosure execution dates; indoctrination date(s); level(s) of access granted; debriefing date(s); and reasons for debriefing.

Authority for maintenance of the system:

50 U.S.C. 401, Congressional declaration of purpose; 50 U.S.C. 435, Purposes; DoD 5200.2R, Department of Defense Personnel Security Program Regulation; DoD 5105.21-M-1, Sensitive Compartment Information Administrative Security Manual; E.O. 10450, Security Requirements for Government Employment; E.O. 10865, Safeguarding Classified Information Within Industry; E.O. 12333, United States Intelligence Activities; E.O. 12829, National Industrial Security Program; and E.O. 12968, Access to Classified Information; and E.O. 9397 (SSN), as amended.

Purpose(s):

The Joint Personnel Adjudication System (JPAS) is an enterprise automated system for personnel security management, providing a common, comprehensive medium to record and document personnel security actions within the Department, including granting interim clearances and submitting investigations. Decentralized access is authorized at the nine central adjudication facilities and DoD Component security offices. JPAS also compiles statistical data for use in analyses and studies.

Routine uses of records maintained in the system including categories of users and the purposes of such uses:

In addition to disclosures generally permitted under 5 U.S.C. 552a(b) of the Privacy Act of 1974, these records may specifically be disclosed outside the DoD as follows to:

To the White House to obtain approval of the President of the United States regarding certain military personnel office actions as provided for in DoD Instruction 1320.4, Military Officer Actions Requiring Approval of the Secretary of Defense or the President, or Confirmation by the Senate.

To the U.S. Citizenship and Immigration Services for use in alien admission and naturalization inquiries.

To the Office of the Director of National Intelligence, the Federal Bureau of Investigation; the National Aeronautics and Space Administration; the Central Intelligence Agency; the Office of Personnel Management; the Department of State, the Department of Treasury; the Internal Revenue Service; the U.S. Postal Service; the U.S. Secret Service; the Bureau of Alcohol, Tobacco, Firearms and Explosives; the U.S. Customs and Border Protection; Department of Homeland Security; any other related Federal agencies for the purpose of determining access to National Security Information (NSI) pursuant to E.O. 12968, Access to Classified Information.

To authorized industry users for the purpose of verifying eligibility and determining access to National Security Information (NSI) of their employees.

The DoD ‘Blanket Routine Uses’ set forth at the beginning of the Office of the Secretary of Defense (OSD) compilation of systems of records notices also apply to this system.

Policies and practices for storing, retrieving, accessing, safeguarding, retaining and disposing of records in the system:

Storage:

Electronic storage media.

Retrievability:

Information is retrieved by full name, SSN, date of birth, state and/or country of birth.

Safeguards:

Electronically and optically stored records are maintained in “fail-safe” system software with password-protected access. Records are accessible only to authorized persons with a valid need-to-know, who are appropriately screened, investigated and determined eligible for access. During non-duty hours, alarms systems and/or security or military police guards secure all locations. Only authorized personnel with a valid need-to-know are allowed access to JPAS. Additionally, access to JPAS is based on a user's specific functions, security eligibility and access level.

Retention and disposal:

Records are destroyed no later than one (1) year after notification of death or not later than five (5) years after separation or transfer of employee or no later than five (5) years after contract relationship expires, whichever is applicable.

System manager(s) and address:

Director, Defense Manpower Data Center, 1600 Wilson Boulevard, Suite 400, Arlington VA 22209-2593.

Deputy Director, Defense Manpower Data Center, DoD Center Monterey Bay, 400 Gigling Road, Seaside, CA 93955-6771.

Notification procedure:

Individuals seeking to determine whether information about themselves is contained in this system should address written inquiries to the Defense Manpower Data Center (DMDC) Boyers, ATTN: Privacy Act Office, P.O. Box 168, Boyers, PA 16020-0168.

Written requests must contain the full name (and any alias and/or alternate names used), SSN, and date and place of birth.

Records access procedures:

Individuals seeking information about themselves contained in this system should address written inquiries to the Office of the Defense Manpower Data Center (DMDC) Boyers, ATTN: Privacy Act Office, P.O. Box 168, Boyers, PA 16020-0168.

Individuals should provide their full name (and any alias and/or alternate names used), SSN, and date and place of birth.

In addition, the requester must provide a notarized statement or an unsworn declaration made in accordance with 28 U.S.C. 1746, in the following format:

If executed without the United States: ‘I declare (or certify, verify, or state) under penalty of perjury under the laws of the United States of America that the foregoing is true and correct. Executed on (date). (Signature).’

If executed within the United States, its territories, possessions, or commonwealths: ‘I declare (or certify, verify, or state) under penalty of perjury that the foregoing is true and correct. Executed on (date). (Signature).’

Attorneys or other persons acting on behalf of an individual must provide written authorization from that individual for their representative to act on their behalf.

Because JPAS is a “joint” DoD system, it may be necessary to refer specific data to the DoD Component where it originated for a release determination.

Contesting record procedures:

The OSD rules for accessing records, and for contesting or appealing agency determinations are published in OSD Administrative Instruction 81, 32 CFR part 311; or may be obtained directly from the system manager.

Records source categories:

Information contained in this system is derived from the appropriate DoD personnel systems; Consolidated Adjudication Tracking System (CATS); records maintained by the DoD adjudicative agencies; and records maintained by security managers, special security officers, or other officials requesting and/or sponsoring the security eligibility determination for the individual. Additional information may be obtained from other sources (such as personnel security investigations, personal financial records, military service records, medical records and unsolicited sources).

Exemptions claimed for the system:

Investigatory material compiled solely for the purpose of determining suitability, eligibility, or qualifications for federal civilian employment, military service, federal contracts, or access to classified information may be exempt pursuant to 5 U.S.C. 552a(k)(5), but only to the extent that such material would reveal the identity of a confidential source.

An exemption rule for this system has been promulgated in accordance with requirements of 5 U.S.C. 553(b)(1), (2), and (3), (c) and (e) and published in 32 CFR part 311. For additional information contact the system manager.

[FR Doc. 2011-10677 Filed 5-2-11; 8:45 am]

BILLING CODE 5001-06-P